NATIONAL AERONAUTICS AND SPACE ADMINISTRATION

[Notice (02-039)]

NASA Advisory Council, Aerospace Technology Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council, Aerospace Technology Advisory Committee (ATAC).

DATES: Wednesday, April 17, 2002, 8:30 a.m. to 5 p.m.; and Thursday, April 18, 2002, 8:30 a.m. to 12 Noon.

ADDRESSES: National Aeronautics and Space Administration, Room 7H46, 300 E Street, SW., Washington, DC 20546.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

—Aerospace Technology Enterprise Overview

—Revolutionize Aviation

—Advanced Space Transportation

—Pioneer Revolutionary Technology

—Commercial Technology

It is imperative that the meeting be held on these dates to accommodate the scheduling priorities of the key participants.

Sylvia K. Kraemer,
Advisory Committee Management Officer, National Aeronautics and Space Administration.

[FR Doc. 02-6497 Filed 3-18-02; 8:45 am]

BILLING CODE 7510-01-P